DEPARTMENT OF COMMERCE

National Oceanic and Atmospheric Administration

50 CFR Part 648

[Docket No. 0907301205-0289-02]

RIN 0648-XZ70

Fisheries of the Northeastern United States; Atlantic Herring Fishery; Total Allowable Catch Harvested for Management Area 1A

AGENCY: National Marine Fisheries Service (NMFS), National Oceanic and Atmospheric Administration (NOAA), Commerce.

ACTION: Temporary rule; notification of trip limit reduction in Area 1A of the Atlantic Herring Fishery.

SUMMARY: NMFS announces that, effective 1200 hours, November 8, 2010, federally permitted vessels may not fish for, catch, possess, transfer, or land more than 2,000 lb (907.2 kg) of Atlantic herring (herring), per trip or calendar day, in or from Management Area 1A (Area 1A) until January 1, 2011, except for transiting purposes described in this document.

DATES: Effective 1200 hours, November 8, 2010, through December 31, 2010.

FOR FURTHER INFORMATION CONTACT: Lindsey Feldman, Fishery Management Specialist, (978) 675-2179.

SUPPLEMENTARY INFORMATION: Regulations governing the herring fishery are found at 50 CFR part 648 and require annual specification of optimum yield, domestic and foreign fishing, domestic and joint venture processing, and management area TACs. Herring specifications for 2010-2012 published on August 12, 2010 (75 FR 48874). The 2010 total TAC is 91,200 mt, allocated to the herring management areas as follows: 26,546 mt to Area 1A, 4,362 mt to Area 1B; 22,146 mt to Area 2; and 38,146 mt to Area 3.

Regulations at § 648.201(a) require NMFS to monitor catch from the herring fishery in each of the herring management areas, using dealer reports, state data, and other available information, to determine when the catch of herring is projected to reach 95 percent of the TAC allocated. When such a determination is made, NMFS is required to prohibit, through publication in the Federal Register, herring vessel permit holders from fishing for, catching, possessing, transferring, or landing more than 2,000 lb (907.2 kg) of herring, per trip or calendar day, in or from the specified management area for the remainder of the closure period, with the exception of transiting as described below.

This action announces that NMFS has determined, based upon dealer reports and other available information, that 95 percent of the herring TAC allocated to Area 1A (25,219 mt) for the 2010 fishing year is projected to be harvested on November 8, 2010. Therefore, effective 1200 hrs local time, November 8, 2010, federally permitted vessels may not fish for, catch, possess, transfer, or land more than 2,000 lb (907.2 kg) of herring, per trip or calendar day, in or from Area 1A through December 31, 2010. Vessels transiting Area 1A with more than 2,000 lb (907.2 kg) of herring on board may do so, provided such herring was not caught in Area 1A and that all fishing gear is stowed and not available for immediate use, as required by § 648.23(b). Federally permitted dealers are also advised, effective November 8, 2010, that they may not purchase herring from federally permitted herring vessels that harvest more than 2,000 lb (907.2 kg) of herring from Area 1A through 2400 hrs local time, December 31, 2010.

Beginning on January 1, 2011, a new TAC in Area 1A will become effective.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action reduces the trip limit for herring in Area 1A to 2,000 lb (907.2 kg) until January 1, 2011, under current regulations. Regulations at § 648.201(a) require such an action to ensure that herring catch does not exceed the 2010 Area 1A TAC. The herring fishery opened for the 2010 fishing year at 0001 hours on January 1, 2010. Data indicating the herring fleet will have harvested at least 95 percent of the 2010 Management Area 1A TAC have only recently become available. If implementation of this trip limit reduction is delayed to solicit prior public comment, the 2010 TAC for the management area will be exceeded, thereby undermining the conservation objectives of the herring fishery management plan. The AA further finds, pursuant to 5 U.S.C. 553(d)(3), good cause to waive the 30 day delayed effectiveness period for the reasons stated above.

Authority: 16 U.S.C. 1801 et seq.

Dated: November 4, 2010.
Emily H. Menashes,
Acting Director, Office of Sustainable Fisheries, National Marine Fisheries Service.

[FR Doc. 2010-28321 Filed 11-5-10; 8:45 am]

BILLING CODE 3510-22-P